DEPARTMENT OF STATE

[Public Notice 11053]

Exchange Visitor Program—Moratorium on Growth in the Au Pair Program

AGENCY: U.S. Department of State.

ACTION: Notice regarding the Au pair category.

SUMMARY: The U.S. Department of State (Department) is announcing, effective immediately, a moratorium on program growth in the Au pair category of the Exchange Visitor Program. Specifically, the Department will not designate new sponsor organizations or allow program expansions for existing sponsors. The moratorium restricts the size of the category to calendar year 2019 program participant levels. The Department may consider reallocation among existing sponsors of Forms DS-2019 from any sponsors who cease to operate in the Au pair category while the moratorium is in place.

FOR FURTHER INFORMATION CONTACT: Karen S. Hawkins, Director of the Office of Private Sector Exchange Designation, Private Sector Exchange, Bureau of Educational and Cultural Affairs, U.S. Department of State, SA-4E, 2430 E Street NW, Washington, DC 20372. Email: JExchanges@state.gov.

SUPPLEMENTARY INFORMATION: The Au pair category of the Exchange Visitor Program allows foreign nationals the opportunity to live with American host families and participate directly in their home life. In addition, au pairs attend U.S. post-secondary educational institutions, participate in cultural activities, and provide childcare services.

In operation in the United States since 1989, the Au pair program supports public diplomacy efforts by fostering beneficial, personal ties with foreign youth and offering them a positive view of the United States that they can then share when they return to their home countries. In calendar year 2019, approximately 21,550 au pairs and 15 au pair sponsor organizations participated in the Exchange Visitor Program.

In 2016, the Department initiated a comprehensive review of the Au pair category and its regulations (at 22 CFR 62.31). The Department is currently monitoring the development of litigation related to the category, particularly recent challenges to the federal preemption of local law. To ensure that it appropriately addresses these and other developments, the Department is continuing its research and augmenting its category review. While the Department conducts this review, it will allow currently designated sponsors to continue to operate under their present designations in accordance with the regulations under 22 CFR part 62 and reminds the sponsors of their obligations to comply with those regulations.

Under 22 CFR 62.6 and 62.12 respectively, the Department may, in its sole discretion, designate applicants as new exchange visitor program sponsors and determine the number of Forms DS-2019 it will issue to each sponsor. Consistent with this authority, the Department has decided to neither accept nor approve new applications from entities seeking Au pair program designation at this time. In addition, the Department will not accept or review new or pending expansion requests from au pair sponsors in business during the 2019 calendar year beyond their actual total participants for that year. At its discretion, the Department may decide to reallocate among existing sponsors Forms DS-2019 from any sponsors who cease to operate in the Au pair program once the moratorium is in effect.

The Department expects this moratorium to remain in effect while it completes the above-referenced review of the program and determines next steps, including potential modifications to the program.

Marie Royce,
Assistant Secretary, Bureau of Educational and Cultural Affairs, Department of State.

[FR Doc. 2020-22454 Filed 10-8-20; 8:45 am]

BILLING CODE 4710-05-P